ENVIRONMENTAL PROTECTION AGENCY

[FRL-7048-3]

Agency Information Collection Activities: Submission for OMB Review; Comment Request, NSPS, Graphic Arts Industry Subject to New Source Performance Standards

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards for the Graphic Arts Industry, OMB Control Number 2060-0105, expiration date August 31, 2001. The ICR describes the nature of the information collection and its expected burden and cost; where appropriate, it includes the actual data collection instrument.

DATES: Comments must be submitted on or before October 9, 2001.

ADDRESSES: Send comments, referencing EPA ICR No. 0657.07 and OMB Control No. 2060-0105, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, N.W., Washington, DC 20503.

FOR FURTHER INFORMATION CONTACT: For a copy of the ICR contact Susan Auby at EPA by phone at (202) 260-4901, by E-Mail at auby.susan@epamail.epa.gov or download off the Internet at http://www.epa.gov/icr and refer to EPA ICR No. 0657.07. For technical questions about the ICR , contact Kelli Smith at 202-564-2257.

SUPPLEMENTARY INFORMATION: Title: NSPS for Graphic Arts Industry (OMB Control No. 2060-0105, expiration date August 31, 2001; EPA ICR No.0657.07). This is a request for extension of a currently approved collection.

Abstract: The EPA is charged under section 111 of the Clean Air Act, as amended, to establish standards of performance for new stationary sources that reflect:

* * * application of the best technological system of continuous emissions reduction which (taking into consideration the cost * * * and energy requirements) the Administrator determines has been adequately demonstrated (section 111(a)(l)).

In addition, section 114(a) requires that any owner or operator subject to any Subpart to establish and maintain records, make reports, install, use and maintain monitoring equipment or methods as required, and provide other information as EPA may deem necessary.

The New Source Performance Standards (NSPS) for subpart QQ were proposed on October 28, 1980, and promulgated on November 8, 1982. These standards apply to each publication rotogravure printing press (not including proof presses) commencing construction, modification or reconstruction after the date of proposal. This information is being collected to assure compliance with 40 CFR part 60, subpart QQ.

Owners or operators of the affected facilities described have certain notification, reporting, and recordkeeping requirements under this rule. Examples of each of these respectively are: a one-time-only notification of the date of the anticipated and actual dates of startup, keeping records of monthly emissions calculations, and a reporting of the initial performance test. Any owner or operator subject to the provisions of this part shall maintain a file of these measurements, and retain the file for at least two years following the date of such reports and records.

Approximately 30 facilities are currently subject to the standard, and it is estimated that an additional 3 facilities will become subject to the standard in the next three years, for a total of 33. It is further assumed that less than half of the existing facilities will be adding or modfiying a press during the three year period. Therefore there are 270 existing presses subject to this standard and an additional 10 affected units will be added each year. This is based upon the AIRS Facility Subsystem Report.

All reports are sent to the delegated State or local authority. In the event that there is no such delegated authority, the reports are sent directly to the EPA Regional Office. Information is entered into the AIRS database.

Notifications are used to inform the Agency or delegated authority when a source becomes subject to the standard. The reviewing authority may then inspect the source to check if the pollution control devices are properly installed and operated and the standard is being met. Performance test reports are needed as these are the Agency's record of a source's initial capability to comply with the emission standard.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on September 15, 2000; no comments were received.

Burden Statement: The annual public reporting and recordkeeping burden for this collection of information is estimated to average 65 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of Graphic Arts Industry.

Estimated Number of Respondents: 33.

Frequency of Response: On occasion, Semi-annually.

Estimated Total Annual Hour Burden: 3,871.

Estimated Total Annualized Capital, O&M Cost Burden: 0.

Send comments on the Agency's need for this information, the accuracy of the provided burden estimates, and any suggested methods for minimizing respondent burden, including through the use of automated collection techniques to the addresses listed above. Please refer to EPA ICR No.0657.07 and OMB Control No. 2060-0105 in any correspondence.

Dated: August 20, 2001.
Oscar Morales,
Director, Collection Strategies Division.

[FR Doc. 01-22373 Filed 9-5-01; 8:45 am]

BILLING CODE 6560-50-P